DEPARTMENT OF COMMERCE

National Telecommunications and Information Administration

First Responder Network Authority; First Responder Network Authority Combined Committee and Board Meeting

AGENCY: First Responder Network Authority (“FirstNet”), U.S. Department of Commerce.

ACTION: Notice of open public meetings.

SUMMARY: The Board of the First Responder Network Authority (“FirstNet Board”) will convene a meeting of the FirstNet Board and the Committees of the Board of the First Responder Network Authority “Board Committees” that will be open to the public via teleconference and WebEx on December 7, 2017.

DATES: A combined meeting of the Board Committees and the FirstNet Board will be held on December 7, 2017, between 9:00 a.m. and 11:30 a.m., Eastern Standard Time (EST). The meeting of the FirstNet Board and the Governance and Personnel, Technology, Consultation and Outreach, and Finance Committees will be open to the public via teleconference and WebEx only from 9:00 a.m. to 11:30 a.m. EST.

ADDRESSES: The combined meeting of the FirstNet Board and Board Committees will be conducted via teleconference and WebEx only. Members of the public may listen to the meeting by dialing toll free 1-888-566-5786 and using passcode 5957846. To view the slide presentation, the public may visit the URL: https://www.mymeetings.com/nc/join/ and enter Conference Number PWXW5929049 and audience passcode 5957846. Alternatively, members of the public may view the slide presentation by directly visiting the URL: https://www.mymeetings.com/nc/join.php?i=PWXW5929049&p=5957846&t=c.

FOR FURTHER INFORMATION CONTACT: Karen Miller-Kuwana, Board Secretary, FirstNet, 12201 Sunrise Valley Drive, M/S 243, Reston, VA 20192; telephone: (571) 665-6177; email: Karen.Miller-Kuwana@firstnet.gov. Please direct media inquiries to Ryan Oremland at (571) 665-6186.

SUPPLEMENTARY INFORMATION: This notice informs the public that the FirstNet Board and Board Committees will convene a combined meeting open to the public via teleconference and WebEx only on December 7, 2017.

Background: The Middle Class Tax Relief and Job Creation Act of 2012 (47 U.S.C. 1401 et seq.)) (“the Act”) established FirstNet as an independent authority within the National Telecommunications and Information Administration that is headed by a Board. The Act directs FirstNet to ensure the building, deployment, and operation of a nationwide, interoperable public safety broadband network. The FirstNet Board is responsible for making strategic decisions regarding FirstNet's operations. The FirstNet Board held its first public meeting on September 25, 2012.

Matters To Be Considered: FirstNet will post a detailed agenda for the combined meeting of the Board Committees and FirstNet Board meeting on its Web site, http://www.firstnet.gov, prior to the meetings. The agenda topics are subject to change. Please note that the subjects that will be discussed by the Board Committees and the FirstNet Board may involve commercial or financial information that is privileged or confidential or other legal matters affecting FirstNet. As such, the Board Committee Chairs and Board Chair may call for a vote to close the meetings only for the time necessary to preserve the confidentiality of such information, pursuant to 47 U.S.C. 1424(e)(2).

Times and Dates of Meeting: A combined meeting of the FirstNet Board and Board Committees will be held on December 7, 2017, between 9:00 a.m. and 11:30 a.m., Eastern Standard Time (EST). The meeting of the FirstNet Board and Board Committees will be open to the public via teleconference and WebEx from 9:00 a.m. to 11:30 a.m. EST. The times listed above are subject to change. Please refer to FirstNet's Web site at www.firstnet.gov for the most up-to-date information.

Place: The combined meeting of the FirstNet Board and Board Committees will be conducted via teleconference and WebEx.

Other Information: The combined meeting of the Board Committees is open to the public via teleconference and WebEx only. On the date and time of the meeting, members of the public may listen to the meeting by dialing toll free 1-888-566-5786 and using passcode 5957846. To view the slide presentation, the public may visit the URL: https://www.mymeetings.com/nc/join/ and enter Conference Number PWXW5929049 and audience passcode 5957846. Alternatively, members of the public may view the slide presentation by directly visiting the URL: https://www.mymeetings.com/nc/join.php?i=PWXW5929049&p=5957846&t=c.

If you experience technical difficulty, please contact the Conferencing Center customer service at 1-866-900-1011. Public access will be limited to listen-only. Due to the limited number of ports, attendance via teleconference will be on a first-come, first-served basis.

The FirstNet Board and Combined Committee Meeting is accessible to people with disabilities. Individuals requiring accommodations are asked to notify Ms. Miller-Kuwana by telephone (571) 665-6177 or email at Karen.Miller-Kuwana@firstnet.gov at least five (5) business days before the applicable meeting.

Records: FirstNet maintains records of all FirstNet Board proceedings. Minutes of the FirstNet Board Meeting and the Board Committee Meetings will be available at www.firstnet.gov.

Dated: November 27, 2017.
Karen Miller-Kuwana,
Board Secretary, First Responder Network Authority.

[FR Doc. 2017-25868 Filed 11-30-17; 8:45 am]

BILLING CODE 3510-TL-P